DEPARTMENT OF COMMERCE

National Oceanic and Atmospheric Administration

RIN 0648-XA718

Receipt of an Application for Incidental Take Permit (16230)

AGENCY: National Marine Fisheries Service (NMFS), National Oceanic and Atmospheric Administration (NOAA), Commerce.

ACTION: Notice of availability.

SUMMARY: NMFS has received an application for an incidental take permit (Permit) from the North Carolina Division of Marine Fisheries (NCDMF) pursuant to the Endangered Species Act of 1973, as amended (ESA). As required by the ESA, NCDMF's application includes a conservation plan designed to minimize and mitigate take of endangered or threatened species. The permit application is for the incidental take of ESA-listed adult and juvenile sea turtles associated with otherwise lawful commercial gill net fisheries operating in inshore waters of North Carolina. The duration of the proposed permit is for 3 years. NMFS is providing this notice to allow other agencies and the public an opportunity to review and comment on the application and associated conservation plan. All comments received will become part of the public record and will be available for review.

DATES: Written comments from interested parties on the permit application and Plan must be received at the appropriate address or fax number (see ADDRESSES) no later than 5 p.m. Eastern daylight time on December 5, 2011.

ADDRESSES: You may submit comments on the permit application and conservation plan, identified by NOAA-NMFS-2011-0231, by any of the following methods during the 60-day comment period:

• Electronic Submission: Submit all electronic public comments via the Federal e-Rulemaking Portal http://www.regulations.gov. To submit comments via the e-Rulemaking Portal, first click the “submit a comment” icon, then enter NOAA-NMFS-2011-0231 in the keyword search. Locate the document you wish to comment on from the resulting list and click on the “Submit a Comment” icon on the right of that line.

• Mail: Submit written comments to Kristy Long, Office of Protected Resources, 1315 East West Highway, 13th Floor, Silver Spring, MD 20910.

• Fax: 301-713-0376; Attn: Kristy Long.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Kristy Long (ph. 301-427-8402, e-mail Kristy.Long@noaa.gov; Dennis Klemm (ph. 727-824-5312, e-mail Dennis.Klemm@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are published at 50 CFR 222.307.

Species Covered in This Notice

The following species are included in the conservation plan and Permit application: Loggerhead (Caretta caretta), green (Chelonia mydas), leatherback (Dermochelys coriacea), hawksbill (Eretmochelys imbricata), and Kemp's ridley (Lepidochelys kempii) sea turtles.

Background

NMFS issued Permit No. 1259 to NCDMF (65 FR 65840, November 2, 2000), Permit No. 1348 (66 FR 51023, October 5, 2001), Permit No. 1398 (67 FR 67150, November 4, 2002), and Permit No. 1528 (70 FR 52984, September 6, 2005) authorizing the incidental take of the foregoing species in certain segments of the commercial fall gill net fisheries for flounder in Pamlico Sound subject to a series of mandatory sea turtle management and monitoring requirements and limits on the numbers of individuals that could be taken annually. On August 18, 2011, NCDMF submitted a revised application to NMFS for Permit No. 16230, authorizing incidental take of ESA-listed sea turtles associated with commercial and recreational gillnet fisheries in inshore state waters for 3 years. This application includes endangered Kemp's ridley, leatherback, and hawksbill sea turtles and threatened green and loggerhead sea turtles. This permit, if issued, and implementing the conservation plan would allow for the incidental take of specified numbers of sea turtles incidental to the continued commercial harvest of target fish species subject to conservation, management and monitoring requirements set forth in the plan and as permit conditions deemed necessary and appropriate by the NMFS.

Conservation Plan

The conservation plan prepared by NCDMF describes measures designed to monitor, minimize, and mitigate the incidental take of ESA-listed sea turtles. The conservation plan includes managing inshore gill net fisheries by dividing estuarine waters into 5 management units (i.e., A-E). Each of the management units would be monitored seasonally and by fishery.

Management Units were delineated on the basis of three primary factors: Similarity of fisheries and management; extent of known protected species interactions in commercial gill net fisheries; and unit size and the ability of the NCDMF to monitor fishing effort. Management Unit A encompasses all estuarine waters north of 35° 46.30′ N to the North Carolina/Virginia state line. This includes all of Albemarle, Currituck, Croatan, and Roanoke sounds as well as the contributing river systems in this area. Management Unit B encompasses all estuarine waters South of 35° 46.30′ N, East of 76° 28.00′ W and North of 34° 48.27′ N. This Management Unit will include all of Pamlico Sound and the Northern portion of Core Sound. Management Unit C will include the Pamlico, Pungo and Neuse river drainages west of 76° 28.00′ W. Management Unit D is divided into two areas, D-1 and D-2, to allow the NCDMF to effectively address areas of high sea turtle abundance or “hot spots.” Management Unit D-1 encompasses all estuarine waters South of 34° 48.27′ N. and east of a line running from 34° 40.70′ N.-76° 22.50′ W. to 34° 42.48′ N.-76° 36.70′ W. Management Unit D-1 includes Southern Core Sound, Back Sound and North River. Management Unit D-2 encompasses all estuarine waters west of a line running from 34° 40.70′ N.-76° 22.50′ W. to 34° 42.48′ N.-76° 36.70′ W. to the Western side of White Oak River. Management Unit D-2 includes Newport River, Bogue Sound and White Oak River. Management Unit E encompasses all estuarine waters south and west of the Western side of the White Oak River to the North Carolina/South Carolina state line. This includes the Atlantic Intercoastal Waterway and adjacent sounds, and the New, Cape Fear, Lockwood Folly and Shallotte rivers.

The large mesh (≥ 5 inch stretched mesh (12.7 cm)) gill net fisheries primarily target southern flounder (Paralicthys lethostigma), striped bass (Morone saxatilis), American shad (Alosa americana), hickory shad (Polomolobus mediocris), and catfishes (Ictalurus sp.). Large mesh gill net fisheries for flounder traditionally operate throughout the majority of the sounds and lower estuarine river systems with peaks in effort in the spring/summer months (April-June), and in the fall months (September-November). Fisheries for striped bass are more limited in time and space due to the anadromous migration pattern of this species. Striped bass gill net fisheries are prosecuted from late October through late April; fishermen are prohibited from targeting striped bass from May through early October. Consequently, the majority of striped bass effort occurs in Albemarle Sound with seasonal effort occurring in the Pamlico Sound and the Pamlico and Neuse River systems. American and hickory shad fishing operations occur almost exclusively from January 1 through April 14 due to their anadromous migration patterns and distribution. Catfish are harvested with large mesh gill nets in the river and Western Albemarle Sound with the majority of catches occurring during the winter to spring months. The most common mesh size for all large mesh gill net fisheries is 5½ inch (13.97 cm) stretched mesh.

The small mesh (<5 inch stretched mesh (12.7 cm)) gillnet fisheries primarily target spot (Leiostomus xanthurus), striped mullet (Mugil cephalus), bluefish (Pomatomus saltatrix), spotted seatrout (Cynoscion nebulosus), weakfish (Cynoscion regalis), Atlantic menhaden (Brevoortia tyrannus), Spanish mackerel (Scomberomorus maculates), white perch (Morone americana), and kingfishes (Menticirrhus sp.). Peaks in spot landings occur in the spring/summer (April to June) and fall (October to November) months; spot are landed throughout the estuarine waters and river systems. Striped mullet are landed year round with peaks in the fall/winter months (October to January). Bluefish are also landed year round throughout the estuarine and river systems with most landings occurring in the spring during April and May. Spotted seatrout and weakfish are targeted by small mesh gillnet operations primarily in the fall/winter (September to January) months. Weakfish landings may also peak in the spring during April and May. Atlantic menhaden are mostly targeted during the spring (February to May) with another peak in landings occurring in October. Spanish mackerel are primarily targeted during the spring and fall months. White perch are almost exclusively targeted during the winter/spring months (December to April). Kingfishes are targeted primarily in the spring and the fall throughout the estuarine and river systems. Mesh sizes used in small mesh gill net operations vary more than those used in large mesh fisheries. However, the most commonly used small mesh sizes generally fall between 3 inch (7.62 cm) and 3¾ inch (9.53 cm) stretched mesh.

Management measures identified in the Conservation Plan include: (1) Restricted soak times for large mesh gillnets from one hour before sunset on Monday through Thursday and one hour after sunrise from Tuesday through Friday (i.e., fishing is prohibited from one hour after sunrise on Friday through one hour before sunset on Monday); (2) restrictions on the maximum net length per large mesh fishing operation (i.e., 2,000 yards (1.83 km, 6,000 ft) per operation except south of the NC Highway 58 bridge where 1,000 yards (0.91 km, 3,000 ft) is maximum; (3) restrictions on large mesh net-shot lengths to 100 yards (91.44 m, 300 ft) with a 25 yard (22.86 m, 75 ft) separation between each net-shot; and (4) requirement for large mesh nets to be low profile (e.g., maximum of 15 meshes in depth, tie-downs prohibited, floats or corks prohibited along float lines north of the NC Highway 58 bridge). NCDMF proposes to monitor sea turtle interactions through reports from fishery observers (both traditional and alternative platform), fishermen, and NCDMF Marine Patrol at a minimum of 7% coverage annually for large mesh gillnet trips. The proposed conservation plan also includes a requirement for NCDMF to provide monthly reports of sea turtle interactions to NMFS with estimates of take by management unit, season, sea turtle species, and disposition.

The annual incidental take of sea turtles, using a 90% confidence limit, is anticipated to be 295 lethal and 607 non-lethal. Specifically, the anticipated lethal and non-lethal take by species is 55 lethal and 116 non-lethal Kemp's ridley, 216 lethal and 436 non-lethal green, 23 lethal and 50 non-lethal loggerhead turtles, and 1 lethal and 5 non-lethal hawksbill turtles. NCDMF is proposing to limit inshore gillnet fisheries such that the impacts on ESA-listed sea turtles will be minimized. NCDMF would use a variety of adaptive fishery management measures and restrictions through their state proclamation authority to reduce sea turtle mortality and prohibit fishing in Management Units or sub-units where incidental take thresholds are exceeded. NCDMF considered and rejected one other alternative, not applying for a permit and closing the fishery, when developing their conservation plan.

National Environmental Policy Act

Issuing a permit would constitute a Federal action requiring NMFS to comply with the National Environmental Policy Act (NEPA; 42 U.S.C. 4321 et seq.) as implemented by 40 CFR parts 1500-1508 and NOAA Administrative Order 216-6, Environmental Review Procedures for Implementing the National Environmental Policy Act (1999). NMFS intends to prepare an Environmental Assessment (EA) to consider a range of reasonable alternatives and fully evaluate the direct, indirect, and cumulative impacts likely to result from issuing a permit.

Next Steps

This notice is provided pursuant to section 10(c) of the ESA. NMFS will evaluate the application, associated documents, and comments submitted thereon to determine whether the application meets the requirements of section 10(a) of the ESA. If we determine that the requirements of section 10(a) and the procedural requirements of NEPA are met, NMFS will issue a permit for incidental takes of ESA-listed sea turtles under the jurisdiction of NMFS. The final NEPA and permit determinations will not be completed until after the end of the 60-day comment period. NMFS will fully consider all public comments received during the comment period. NMFS will publish a record of its final action in the Federal Register.

Dated: September 29, 2011.
Helen Golde,
Deputy Director, Office of Protected Resources, National Marine Fisheries Service.

[FR Doc. 2011-25752 Filed 10-4-11; 8:45 am]

BILLING CODE 3510-22-P